DEPARTMENT OF COMMERCE

National Oceanic and Atmospheric Administration

RIN 0648-XJ31

Fisheries of the Northeast Region; Fisheries of the Southeast Region; Highly Migratory Species

AGENCY: National Marine Fisheries Service (NMFS), National Oceanic and Atmospheric Administration (NOAA), Commerce.

ACTION: Notification of determination of overfished and overfishing conditions.

SUMMARY: This action serves as a notice that NMFS, on behalf of the Secretary of Commerce (Secretary), has determined that northeast smooth skate, South Atlantic red snapper, and Gulf of Mexico gray triggerfish are overfished and that northeast thorny skate is subject to overfishing. NMFS notified the respective regional fishery management councils (Councils) responsible for these fisheries of its determination. The Councils are required to take action within 1 year following notification by NMFS that overfishing is occurring, a stock is approaching overfishing, a stock is overfished, a stock is approaching an overfished condition, or existing remedial action taken to end overfishing or rebuild an overfished stock has not resulted in adequate progress. In addition, the Secretary has determined that the highly migratory species blacknose shark is overfished and overfishing is occurring.

FOR FURTHER INFORMATION CONTACT: Seanbob Kelly, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, notifies fishery management councils when overfishing is occurring, a stock is approaching overfishing, a stock is overfished, a stock is approaching an overfished condition, or existing action taken to end previously identified overfishing or rebuilding a previously identified overfished stock or stock complex has not resulted in adequate progress.

On June 20, 2008, the NMFS approved Amendment 30A to the Fishery Management Plan for the Reef Fish Resources of the Gulf of Mexico and implemented it with a final rule published in the Federal Register (73 FR 38139; July 3, 2008). Amendment 30A established management targets and thresholds for Gulf of Mexico gray triggerfish that were previously undefined. Based on these new status determination criteria the NMFS found that the Gulf of Mexico gray triggerfish is overfished using an earlier stock assessment (SEDAR 9, 2006). Amendment 30A includes a rebuilding plan for Gulf of Mexico gray triggerfish.

On July 8, 2008, the NMFS Southeast Regional Administrator sent a letter notifying the South Atlantic Fishery Management Council (South Atlantic Council) that South Atlantic red snapper is overfished. The South Atlantic Council must submit a rebuilding plan for red snapper within one year of that notification.

On July 21, 2008, the NMFS Northeast Regional Administrator sent a letter notifying the New England Fishery Management Council (New England Council) that smooth skate is overfished and that thorny skate is undergoing overfishing. Thorny skate is currently under a rebuilding plan. The New England Council must therefore ensure that overfishing is ended and that the stock rebuilds on schedule. Copies of the notification letters sent to the fishery management councils for the aforementioned determinations are available at http://www.nmfs.noaa.gov/sfa/statusoffisheries/SOSmain.htm.

NMFS previously published the Secretary's determination that blacknose shark is overfished and subject to overfishing (73 FR 25665; May 7, 2008). It is included in this notice to provide complete documentation of the overfished and overfishing determinations made between April 1, 2008 and June 30, 2008.

Within 1 year of a notification under Magnuson-Stevens Act sections 304(e)(2) or (e)(7), the respective Council must take remedial action in response to the notification, to end overfishing if overfishing is occurring; rebuild an overfished stock or stock complex to the abundance that can produce maximum sustainable yield within an appropriate time frame; prevent overfishing from occurring if a stock is approaching overfishing; and/or prevent a stock from becoming overfished if it is approaching an overfished condition (see implementing regulations at 50 CFR 600.310(e)(3)). Such action must be submitted to NMFS within 1 year of notification and may be in the form of a new fishery management plan (FMP), an FMP amendment, or proposed regulations.

Dated: August 19, 2008.
Alan D. Risenhoover,
Director, Office of Sustainable Fisheries, National Marine Fisheries Service.

[FR Doc. E8-19666 Filed 8-22-08; 8:45 am]

BILLING CODE 3510-22-S